DEPARTMENT OF HOMELAND SECURITY

Coast Guard

33 CFR Part 100

[Docket No. USCG-2025-0273]

Special Local Regulation: Miami Beach Air and Sea Show, Atlantic Ocean, Miami Beach, FL

AGENCY: Coast Guard, DHS.

ACTION: Notification of enforcement of regulation.

SUMMARY: The Coast Guard will enforce a special local regulation for the Miami Beach Air and Sea Show from May 24 through May 25, 2025, to provide for the safety of life on navigable waterways during this event. Our regulation for marine events within the Seventh Coast Guard District identifies the regulated area for this event in Miami Beach, FL. During the enforcement periods, no person or vessel may enter, transit through, anchor in, or remain within the regulated area unless authorized by the Coast Guard Patrol Commander or a designated representative.

DATES: The regulation in 33 CFR 100.702 will be enforced for the Low Country Splash regulated area listed in item no. 2 in table 1 to § 100.702, daily from 9 a.m. until 5 p.m., on May 24 and 25, 2025.

FOR FURTHER INFORMATION CONTACT: If you have questions about this notification of enforcement, call or email Mr. Robert M. Olivas, Sector Miami Waterways Management Division, U.S. Coast Guard; telephone 305-535-4317, email Robert.M.Olivas2@uscg.mil.

SUPPLEMENTARY INFORMATION: The Coast Guard will enforce a special local regulation in 33 CFR 100.702 for the Miami Beach Air and Sea Show regulated area listed in item no. 2 in table 1 to § 100.702, daily from 9 a.m. until 5 p.m., on May 24 and 25, 2025. This action is being taken to provide for the safety of life on navigable waterways during the event. Our regulation for Marine Events within the Captain of the Port Miami, § 100.702, table 1 to § 100.702, item no. 2, specifies the location of the Miami Beach Air and Sea Show which encompasses a portion of the Atlantic Ocean east of Miami Beach. Under the provisions of § 100.702(c), only event sponsor, designated participants, and official patrol vessels are allowed to enter the regulated area, unless otherwise authorized by the COTP Miami or Designated Representative.

Under the provisions of § 100.702(c), spectator vessels may safely transit outside the regulated area, but may not anchor, block, loiter in, impede the transit of festival participants or official patrol vessels or enter the regulated area without approval from the Coast Guard Patrol Commander or a designated representative. The Coast Guard may be assisted by other Federal, State, or local law enforcement agencies in enforcing this regulation. In addition to this notice of enforcement in the Federal Register, the Coast Guard will provide notice of the regulated area via Local Notice to Mariners, Marine Safety Information Bulletins, Broadcast Notice to Mariners, and on-scene designated representatives.

Dated: April 28, 2025.
F.J. Florio,
Captain, U.S. Coast Guard, Captain of the Port Miami.

[FR Doc. 2025-07800 Filed 5-5-25; 8:45 am]

BILLING CODE 9110-04-P